DEPARTMENT OF HOUSING AND URBAN DEVELOPMENT

[Docket No. FR-5300-FA-10]

Announcement of Funding Awards; Fair Housing Initiatives Program Fiscal Year (FY) 2009

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the Notice of Funding Availability (NOFA) for the Fair Housing Initiatives Program (FHIP) for FY2009. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 7th Street, SW., Room 5230, Washington, DC 20410. Telephone number (202) 402-7095 (this is not a toll-free number). Persons with hearing or speech impairments may access this number through TTY by calling the toll-free Federal Relay Service at 800-877-8339.

SUPPLEMENTARY INFORMATION:

Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department published its Fair Housing Initiatives Program (FHIP) NOFA on July 23, 2009 announcing the availability of approximately $26.3 million authorized by out of the Omnibus Appropriations Act, 2009 (Pub. L. 111-8, approved March 11, 2009) to be utilized for FHIP projects and activities. Funding availability for discretionary grants included: the Private Enforcement Initiative (PEI) ($21.1 million), the Education and Outreach Initiative (EOI) ($3.1 million), and the Fair Housing Organizations Initiative (FHOI) ($2.1 million).

This Notice announces grant awards of approximately $26.3 million, and funding for Fair Housing Accessibility First (FIRST) training. FIRST is a major training initiative to assist architects, builders, disability advocates and others with understanding how to design and construct multifamily housing that complies with the Act.

For the FY 2009 NOFA, the Department reviewed, evaluated and scored the applications received based on the criteria in the FY2009 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: September 13, 2011
John D. Trasviña,
Assistant Secretary for Fair Housing and Equal Opportunity.

Attachment A—FY 2009 Fair Housing Initiatives Program Awards
Applicant name | Contact | Region | Award amt.
Education and Outreach Initiative/General Component
Champlain Valley Office of Economic Opportunity: 191 North Street, Burlington, VT 05401 | (802) 864-3334 | 1 | $100,000.00
Fair Housing Center of Greater Boston: 59 Temple Place, Ste. 1105 Boston, MA 02111 | (617) 399-0491 | 1 | 100,000.00
New Jersey Citizen Action: 744 Broad Street, Newark, NJ 07102 | (973) 643-8800 | 2 | 100,000.00
Neighborhood Economic Development Advocacy Project, Inc.: 73 Spring Street, Suite 506 New York, NY 10012 | (212) 680-5100 | 2 | 100,000.00
Delaware Community Reinvestment Action Council, Inc.: 601 N. Church Street, Wilmington, DE 19801 | (302) 654-5024 | 3 | 90,000.00
Equal Rights Center: 11 Dupont Circle, NW., Ste. 450, Washington, DC 20036 | (202) 289-5360 | 3 | 100,000.00
Southwestern Pennsylvania Legal Services, Inc.: 10 West Cherry Avenue, Washington, PA 15301 | (724) 225-6170 | 3 | 100,000.00
Northern West Virginia Center for Independent Living: 601-3 East Brockway Avenue, Morgantown, WV 26501 | (617) 399-0491 | 3 | 95,753.00
Piedmont Housing Alliance: 111 Monticello Avenue, Ste. 104 Charlottesville, VA 22902 | (434) 817-2436 | 3 | 64,139.00
Legal Aid Society of Palm Beach County, Inc.: 423 Fern Street, Ste. 200, West Palm Beach, FL 33401 | (561) 655-8944 | 4 | 100,000.00
Corporacion de Desarrollo Economico De Ceiba, CD: 252 Lauro Pittero Street, Ceiba, PR 00735 | (787) 885-3020 | 4 | 100,000.00
Metropolitan Milwaukee Fair Housing Council, Inc.: 600 East Mason Street, Milwaukee, WI 53202 | (414) 278-1240 | 5 | 99,997.00
Prairie State Legal Services, Inc.: 975 N. Main Street, Rockford, IL 61103-7064 | (630) 690-2130 | 5 | 100,000.00
Miami Valley Fair Housing Center, Inc.: 21 East Babbitt Street, Dayton, OH 45405-4903 | (937) 223-6035 | 5 | 100,000.00
Desire Community Housing Corporation: 4298 Elysian Field Avenue, Ste. B, New Orleans, LA 70122 | (504) 944-2727 | 6 | 100,000.00
Iowa Civil Rights Commission, Grimes State Office Building: 400 E. 14th Street, Des Moines, Iowa 50319 | (515) 281-9086 | 7 | 93,536.00
Missouri Commission on Human Rights: 3315 W. Truman Blvd., Jefferson City MO 65102-1129 | (573) 526-5090 | 7 | 97,500.00
High Plains Community Development Corporation, Inc.: 139 East 2nd, Chadron, NE 69337 | (308) 432-4346 | 7 | 59,878.00
Arizona Fair Housing Center: 615 N. 5th Avenue, Phoenix, AZ 85003 | (602) 548-1599 | 9 | 100,000.00
Fair Housing of Marin: 615 B Street, San Rafael, CA 94901 | (415) 457-5025 | 9 | 100,000.00
Legal Aid Services of Oregon: 921 SW. Washington Street, Ste. 570, Portland, OR 97205 | (503) 224-4094 | 10 | 100,000.00
Norwest Fair Housing Alliance: 35 West Main Avenue, Ste. 250, Spokane, WA 92201 | (590) 325-2665 | 10 | 99,197.00
Education and Outreach Initiative/National Media Campaign Component
Pacific News Media: 275 Ninth Street, San Francisco, CA 94103 | (415) 503-4170 | 9 | 500,000.00
National Fair Housing Alliance: 1101 Vermont Avenue, NW, Suite 710, Washington, DC 20005 | (202) 898-1661 | 3 | 500,000.00
Private Enforcement Initiative/General Component
Pine Tree Legal Assistance, Inc.: 88 Federal Street, Portland, ME 04112 | (207) 774-4753 | 1 | 232,395.72
New Hampshire Legal Assistance: 117 North State Street, Concord, NH 03301 | (603) 206-2221 | 1 | 275,000.00
Vermont Legal Aid, Inc.: 264 North Winooski Avenue, Burlington, VT 05402 | (802) 885-5181 | 1 | 274,846.58
Connecticut Fair Housing Center, Inc.: 221 Main Street, 4th Floor, Hartford, CT 06106 | (860) 247-4400 | 1 | 275,000.00
Legal Assistance of Western New York, Inc.: 1 West Main Street, Rochester, NY 14614 | (585) 295-5610 | 2 | 222,199.00
South Brooklyn Legal Services, Inc.: 105 Court Street, Brooklyn, NY 11201-5645 | (718) 237-5500 | 2 | 275,000.00
The Fair Housing Justice Center, Inc.: 5 Hanover Square, 17th Floor, New York, NY 10004 | (212) 400-8280 | 2 | 274,991.00
Southwestern Pennsylvania Legal Services, Inc.: 10 West Cherry Avenue, Washington, PA 15301 | (724) 225-6170 | 3 | 275,000.00
Community Legal Aid Society, Inc.: 100 West 10th Street, Ste. 801, Wilmington, DE 19801 | (707) 224-9720 | 3 | 274,621.00
Baltimore Neighborhoods, Inc.: 2217 St. Paul Street, Baltimore, MD 21218 | (410) 243-4468 | 3 | 259,124.00
Equal Rights Center: 11 DuPont Circle, NW., Washington, DC 20036 | (202) 289-5360 | 3 | 275,000.00
Community Legal Services of of Mid-Florida, Inc.: 128-A Orange Avenue, Daytona Beach, FL 32114 | (386) 255-6573 | 4 | 275,000.00
Fair Housing Continuum, Inc.: 4760 US Hwy 1, Ste. 203, Melbourne, FL 32935 | (321) 757-3532 | 4 | 275,000.00
Legal Aid Society of Palm Beach County, Inc.: 423 Fern Street, Ste. 200, West Palm Beach, FL 33401 | (561) 655-8944 | 4 | 230,784.00
Interfaith Housing Center of Northern Surburbs: 614 Lincoln Avenue, Winnetka, IL 60093 | (847) 501-5760 | 5 | 200,000.00
SER/Jobs for Progress, Inc.: 204 North Genesee Street, Ste. 220, Waukegan, IL 60085 | (847)336-3247 | 5 | 127,588.00
Fair Housing Center of Southwest Michigan: 410 East Michigan, Kalamazoo, MI 49007 | (269) 276-9100 | 5 | 330,882.00
Legal Services of Eastern Michigan: 436 S. Saginaw Street, Flint, MI 48502-1812 | (810) 234-2621 | 5 | 258,577.00
Greater New Orleans Fair Housing Action Center: 228 St. Charles Avenue, New Orleans, LA 70130 | (617) 399-0491 | 6 | 275,000.00
Metropolitan Fair Housing Council of Oklahoma, Inc.: 1500 NE 4th Street, Suite 204, Oklahoma City, OK 73117 | (405) 232-3247 | 6 | 274,900.00
Greater Houston Fair Housing Center, Inc.: P. O. Box 292, Houston, TX 77001-0292 | (713) 641-3247 | 6 | 275,000.00
Arizona Fair Housing Center: 615 N 5th Avenue, Phoenix, AZ 85003 | (602) 548-1599 | 9 | 275,000.00
Bay Area Legal Aid: 1735 Telegraph Avenue, Oakland, CA 94612 | (510) 250-5229 | 9 | 275,000.00
Fair Housing Council of Central California: 333 W. Shaw Avenue, Suite 14, Fresno, CA 93704 | (559) 244-2950 | 9 | 275,000.00
Greater Napa Fair Housing Center: 601 Cabot Way, Napa, CA 94559 | (707) 224-9720 | 9 | 136,500.00
Orange County Fair Housing Council: 201 S. Broadway, Santa Ana, CA 92701-5633 | (714) 569-0823 | 9 | 185,200.00
Southern California Housing Rights Center: 520 South Virgil Avenue, Los Angeles, CA 90020 | (213) 387-8400 | 9 | 275,000.00
Intermountain Fair Housing Council, Inc.: 350 N. 9th Street, Ste. M 200, Boise, ID 83702-5477 | (208) 383-0695 | 10 | 274,930.00
Fair Housing Council of Oregon: 1020 SW Taylor Street, Ste. 700, Portland, OR 97205 | (503) 402-1157 | 10 | 275,000.00
Private Enforcement Initiative/Performance-Based Component
Fair Housing Center of Greater Boston: 59 Temple Place, Ste. 1105, Boston, MA 02111 | (617) 399-0491 | 1 | 274,750.00
Housing Discrimination Project: 57 Suffolk Street, Holyoke, MA 01040 | (413) 539-9796 | 1 | 275,000.00
Legal Assistance Corporation of Central Massachusetts: 405 Main Street, Worcester, MA 01608 | (508) 752-3718 | 1 | 237,933.33
Housing Opportunities Made Equal, Inc.: 700 Main Street, 3rd Floor, Buffalo, NY 14202 | (716) 854-1400 | 2 | 263,846.33
Long Island Housing Services, Inc.: 640 Johnson Avenue, Bohemia, NY 11716-2624 | (613) 467-5111 | 2 | 275,000.00
Fair Housing Council of Northern New Jersey: 131 Main Street, Hackensack, NJ 07601 | (201) 482-3552 | 2 | 275,000.00
Fair Housing Council of Suburban Philadelphia, Inc: 225 South Chester Road, Ste. 1, Swarthmore, PA 19081 | (610) 604-4411 | 3 | 274,817.66
Fair Housing Partnership of Greater Pittsburgh, Inc.: 2840 Liberty Avenue, Pittsburgh, PA 15222 | (412) 391-2535 | 3 | 275,000.00
Fair Housing Rights Center in Southeastern Pennsylvania: 105 Glenside Avenue, Glenside, PA 19038 | (215) 576-7711 | 3 | 275,000.00
Central Alabama Fair Housing Center: 1817 West Second Street, Montgomery, AL 36106 | (334) 263-4663 | 4 | 274,000.00
Fair Housing Center of Northern Alabama: 1728 3rd Avenue, Ste. 400C, Birmingham, AL 35203-2033 | (205) 324-0111 | 4 | 275,000.00
Mobile Fair Housing Center, Inc.: P.O. Box 161202, Mobile, AL 36616 | (251) 479-1532 | 4 | 275,000.00
Lexington Fair Housing Council, Inc.: 207 E Reynolds Road, Ste. 130, Lexington, KY 40517 | (859) 971-8067 | 4 | 260,476.66
Tennessee Fair Housing Council, Inc.: 107 Music City Circle, Nashville, TN 37214 | (615) 874-2344 | 4 | 275,000.00
West Tennessee Legal Services, Inc.: 210 West Main Street, Jackson, TN 38301 | (731) 426-1311 | 4 | 275,000.00
Metro Fair Housing Services, Inc.: 1514 East Cleveland Avenue, Ste. 118, East Point, GA 30344 | (404) 765-3965 | 4 | 275,000.00
Bay Area Legal Services, Inc.: 829 W MLK Jr. Blvd., Tampa, FL 33603 | (813) 232-1343 | 4 | 234,973.33
Jacksonville Area Legal Aid, Inc.: 126 West Adams Street, Jacksonville, FL 32202 | (904) 356-8371 | 4 | 274,751.66
Access Living of Metropolitan Chicago: 115 West Chicago, Chicago, IL 60654 | (312) 226-5900 | 5 | 275,000.00
HOPE Fair Housing Center: 2100 Manchester Road, Bldg. CC-1620m, Wheaton, IL 60187 | (630) 690-6500 | 5 | 274,490.66
John Marshall Law School: 315 South Plymouth Court, Chicago, IL 60604 | (312) 982-1429 | 5 | 274,958.33
South Suburban Housing Center: 18220 Hardwood Avenue, Ste. 1, Homewood, IL 60430 | (708) 957-4674 | 5 | 273,505.00
Fair Housing Center of Metropolitan Detroit: 124 Washington Blvd., Ste. 1312, Detroit, MI 48226 | (313) 963-1274 | 5 | 180,740.00
Fair Housing Center of Southeastern Michigan: P.O. Box 7825, Ann Arbor, MI 48107 | (734) 994-3426 | 5 | 183,549.00
Fair Housing Center of West Michigan: 20 Hall Street, SE, Grand Rapids, MI 49507 | (616) 451-2950 | 5 | 274,603.66
Legal Aid Society of Minneapolis: 430 First Avenue, Minneapolis, MN 55401 | (612) 234-5785 | 5 | 275,000.00
Fair Housing Contact Service: 441 Wolf Ledges Parkway, Ste. 200, Akron, OH 44311 | (330) 376-6191 | 5 | 275,000.00
Fair Housing Resource Center, Inc.: 54 South State Street, Ste. 303, Painesville, OH 44077 | (440) 392-0147 | 5 | 275,000.00
Fair Housing Opportunities, Inc. dba Fair Housing Center: 432 North Superior, Toledo, OH 43604 | (419) 243-6163 | 5 | 275,000.00
Housing Advocates, Inc.: 3214 Prospect Avenue East, Cleveland, OH 44115 | (216) 431-7400 | 5 | 275,000.00
Housing Opportunities Made Equal of Cincinnati, Inc.: 2400 Reading Road, Cincinnati, OH 45202 | (513) 721-4663 | 5 | 273,815.40
Housing Research & Advocacy Center: 3631 Perkins Avenue, Cleveland, OH 44114 | (216) 426-9240 | 5 | 275,000.00
Miami Valley Fair Housing Center, Inc.: 21-23 East Babbitt, Dayton, OH 45405 | (937) 223-6035 | 5 | 275,000.00
Metropolitan Milwaukee Fair Housing Council, Inc.: 600 East Main Street, Milwaukee, WI 53202 | (414) 278-1240 | 5 | 274,921.33
Austin Tenants Council, Inc.: 1640 B East 2nd Street, Austin, TX 78702 | (512) 474-7007 | 6 | 274,707.00
San Antonio Fair Housing Council, Inc.: 4414 Centerview Drive, Ste. 229, San Antonio, TX 78228 | (210) 207-3247 | 6 | 275,000.00
Metropolitan Saint Louis Equal Housing Opportunity Council: 1027 S Vandeventer, St. Louis, MO 63110 | (314) 534-5800 | 7 | 224,379.00
Fair Housing of the Dakotas: 533 Airport Road, Bismark, ND 58504 | (701) 221-2530 | 8 | 220,540.66
Southwest Fair Housing Council: 2030 Broadway Blvd., Ste. 101, Tucson, AZ 85719 | (520) 798-1568 | 9 | 274,309.00
California Rural Legal Assistance, Inc.: 631 Howard Street, Ste. 300, San Francisco, CA 94105-3935 | (530) 742-7325 | 9 | 275,000.00
Fair Housing of Marin: 615 B Street, San Rafael, CA 94901 | (415) 457-5025 | 9 | 275,000.00
Inland Mediation Board: 60 East 9th Street, Upland, CA 91786 | (909) 984-2254 | 9 | 275,000.00
Project Sentinel, Inc.: 525 Middlefield Road, Ste. 200, Redwood City, CA 94063-1623 | (650) 321-6291 | 9 | 273,787.67
Legal Aid Society of Hawaii: 924 Bethel Street, Honolulu, HI 96813 | (808) 536-4302 | 9 | 275,000.00
Silver State Fair Housing Council: 855 E Fourth Street, Ste. E, Reno, NV 89512 | (775) 324-0990 | 9 | 268,606.00
Fair Housing Center of Washington: 1517 S. Fawcett Street, Tacoma, WA 98402 | (253) 274-9523 | 10 | 27 5,000.00
Northwest Fair Housing Alliance: 35 West Main, Ste. 250, Spokane, WA 92201 | (590) 325-2665 | 10 | 275,000.00
Private Enforcement Initiative/Performance-Mortgage Rescue Scam Component
National Fair Housing Alliance: 1101 Vermont Avenue, NW., Washington, DC 20005 | (202) 898-1661 | 3 | 871,961.00
St. Martins Center, Inc.: 1701 Parade Street, Erie, PA 16503 | (814) 452-6113 | 3 | 128,039.00
Fair Housing Organizations Initiative/Continued Development-Mortgage Rescue Scam Component
South Brooklyn Legal Services: 105 Court Street, Brooklyn, NY 11201 | (718) 237-5500 | 2 | 318,408.00
Housing Counseling Services: 2410 17th Street, NW., Washington, DC 20009 | (202) 667-7006 | 3 | 100,000.00
Lawyers Committee for Civil Rights under Law, Inc.: 1401 New York Avenue, NW., Washington, DC 20005 | (202) 662-8314 | 3 | 155,079.00
Metropolitan Milwaukee Fair Housing Council, Inc.: 600 East Mason Street, Milwaukee, WI 53202 | (414) 278-1240 | 5 | 294,697.00
Housing and Economic Rights Advocates: 1814 Franklin Street, Ste. 1040, Oakland, CA 94612 | (510) 271-8443 | 9 | 131,916.00
Fair Housing Organizations Initiative/Continued Development Component
National Fair Housing Alliance: 1101 Vermont Avenue, NW., Washington, DC 20005 | (202) 898-1661 | 3 | 599,900.00
Reinvestment Fund, Inc.: 718 Arch Street, Philadelphia, PA 19106-1591 | (215) 574-5827 | 3 | 410,000.00
Miami Valley Fair Housing Center, Inc.: 21 East Babbitt Street, Dayton, OH 45405-4903 | (937) 223-6035 | 5 | 90,000.00
Fair Housing Organizations Initiative/Establishing New Organizations Component
National Fair Housing Alliance: 1212 New York Avenue, NW, Suite 525, Washington, DC 20005 | (202) 898-1661 | 3 | 599,900.00
Secretary-Initiated Projects/Contracts
Deloitte Consulting, LLP: 1676 International Dr., McLean, VA 22102-4828 | (703) 747-4230 | 3 | 800,000.00

[FR Doc. 2011-24281 Filed 9-21-11; 8:45 am]

BILLING CODE 4210-67-P